DEPARTMENT OF THE INTERIOR

Bureau of Safety and Environmental Enforcement (BSEE)

[Docket ID BSEE-2012-0014; OMB Control Number 1014-NEW]

Agency Information Collection Activity: Subpart B, Plans and Information; Comment Request

AGENCY: Bureau of Safety and Environmental Enforcement (BSEE), Interior.

ACTION: 30-day Notice.

SUMMARY: To comply with the Paperwork Reduction Act of 1995 (PRA), we are notifying the public that we have submitted to OMB an information collection request (ICR) for a new approval of the paperwork requirements in the regulations under Subpart B, Plans and Information, and related documents. This notice also provides the public a second opportunity to comment on the paperwork burden of these regulatory requirements.

DATES: Submit written comments by October 24, 2012.

ADDRESSES: Submit comments by either fax (202) 395-5806 or email (OIRA_DOCKET@omb.eop.gov) directly to the Office of Information and Regulatory Affairs, OMB, Attention: Desk Officer for the Department of the Interior (1014-NEW). Please provide a copy of your comments to BSEE by any of the means below.

• Electronically: go to http://www.regulations.gov. In the entry titled, Enter Keyword or ID, enter BSEE-2012-0014 then click search. Follow the instructions to submit public comments and view all related materials. We will post all comments.

• Email cheryl.blundon@bsee.gov, fax (703) 787-1546, or mail or hand-carry comments to: Department of the Interior; Bureau of Safety and Environmental Enforcement; Regulations Development Branch; Attention: Cheryl Blundon; 381 Elden Street, HE-3313; Herndon, Virginia 20170-4817. Please reference 1014-NEW in your comment and include your name and return address.

FOR FURTHER INFORMATION CONTACT: Cheryl Blundon, Regulations Development Branch, (703) 787-1607, to request additional information about this ICR. To see a copy of the entire ICR submitted to OMB, go to http://www.reginfo.gov (select Information Collection Review, Currently Under Review).

SUPPLEMENTARY INFORMATION:

Title: 30 CFR 250, Subpart B, Plans and Information.

OMB Control Number: 1014-NEW.

Abstract: The Outer Continental Shelf (OCS) Lands Act, as amended (43 U.S.C. 1331 et seq., and 43 U.S.C. 1801 et seq.), authorizes the Secretary of the Interior to prescribe rules and regulations necessary for the administration of the leasing provisions of that Act related to mineral resources on the OCS. Such rules and regulations will apply to all operations conducted under a lease, right-of-use and easement, or unit.

The Independent Offices Appropriations Act (31 U.S.C. 9701), the Omnibus Appropriations Bill (Pub. L. 104-133, 110 Stat. 1321, April 26, 1996), and OMB Circular A-25, authorize Federal agencies to recover the full cost of services that confer special benefits. Under the Department of the Interior's implementing policy, BSEE is required to charge fees for services that provide special benefits or privileges to an identifiable non-Federal recipient above and beyond those which accrue to the public at large. Deepwater Operations Plans are subject to cost recovery, and BSEE regulations specify a service fee for this request.

Regulations implementing these responsibilities are under 30 CFR Part 250, Subpart B, and are among those delegated to BSEE. This request also covers the related Notices to Lessees and Operators (NTLs) that BSEE issues to clarify, supplement, or provide additional guidance on some aspects of our regulations.

To accommodate the split of regulations from the Bureau of Ocean Energy Management, Regulation and Enforcement to BSEE (76 FR 64432), BSEE is requesting OMB approval of the already approved information collections that were previously under 1010-0151 to reflect BSEE's new 1014 numbering system. This ICR does not change the burden hours or make any other modifications to what was previously approved, other than to remove the collections under the purview of BOEM.

Responses are mandatory. No questions of a sensitive nature are asked. BSSE will protect information considered proprietary under the Freedom of Information Act (5 U.S.C. 552) and its implementing regulations (43 CFR part 2); also under regulations at 30 CFR 250.197, Data and information to be made available to the public or for limited inspection, and 30 CFR part 252, Outer Continental Shelf (OCS) Oil and Gas Information Program.

BSEE analyzes and evaluates the information and data collected under this subpart to ensure that planned operations are safe; will not adversely affect the marine, coastal, or human environment; and will conserve the resources of the OCS. We use the information to make an informed decision on whether to approve the proposed deepwater operations plans, or whether modifications are necessary without the analysis and evaluation of the required information.

Frequency: On occasion.

Description of Respondents: Potential respondents comprise Federal oil, gas, or sulphur lessees and/or operators.

Estimated Reporting and Recordkeeping Hour Burden: The estimated annual hour burden for this information collection is a total of 18,256 hours. The following chart details the individual components and estimated hour burdens. In calculating the burdens, we assumed that respondents perform certain requirements in the normal course of their activities. We consider these to be usual and customary and took that into account in estimating the burden.

Citation 30 CFR 250 Subpart B and NTLs | Reporting & recordkeeping requirement | Hour burden | Average number of annual responses annual | Burden hours
|  | Non-Hour Cost Burdens*
201; 204; 205 | General requirements for plans and information; service fees; confirmations; etc | Burden included with specific requirements below |  | 0
Post-Approval Requirements for the EP, DPP, and DOCD
282 | Retain monitoring data/information; upon request, make available to BSEE | 4 | 300 records | 1,200
| Submit monitoring plan for approval | 2 | 12 plans | 24
282(b) | Submit monitoring reports and data | 3 | 24 reports | 72
Subtotal |  |  | 336 responses | 1,296
Submit DWOPs and Conceptual Plans
287; 291; 292 | Submit DWOP and accompanying/supporting information | 750 | 12 plans | 9,000
|  | $3,336 × 12 = $40,032
288; 289 | Submit a Conceptual Plan for approval | 200 | 8 plans | 1,600
294 | Submit a combined Conceptual Plan/DWOP for approval before deadline for submitting Conceptual Plan | 950 | 3 plans | 2,850
295 | Submit a revised Conceptual Plan or DWOP for approval within 60-day of material change | 100 | 35 plan revisions | 3,500
Subtotal |  |  | 58 responses | 16,950
|  |  | $40,032 non-hour costs
200 thru 295 | General departure and alternative compliance requests not specifically covered elsewhere in subpart B regulations | 2 | 5 requests | 10
Subtotal |  |  | 5 responses | 10
Total Burden |  |  | 399 Responses | 18,256
|  |  | $40,032 Non-Hour Cost Burdens
* The non-hour cost burden that is associated with cost recovery money collected is based on actual submittals through Pay.gov for FY 2010.

Estimated Reporting and Recordkeeping Non-Hour Cost Burden: We have identified one non-hour cost burden associated with this collection of information. It consists of a fee being submitted with a DWOP ($3,336). We estimate that the total annual non-hour cost burden is $40,032, and we have not identified any other non-hour cost burdens associated with this collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on July 6, 2011, we published a Federal Register notice (76 FR 39419) announcing that we would submit this ICR to OMB for approval. The notice provided the required 60-day comment period. In addition, the § 250.199 regulation informs the public that they may comment at any time on the collections of information and provides the address to which they should send comments. We received two comments in response to these efforts. While the first comment, from the Marine Mammal Commission, supported our request to OMB, the second comment pertained to BOEM requirements and was therefore not relevant to BSEE regulations. BOEM responded to both comments in the Federal Register on September 30, 2011 (76 FR 60856).

If you wish to comment in response to this notice, you may send your comments to the offices listed under the ADDRESSES section of this notice. The OMB has up to 60 days to approve or disapprove the information collection but may respond after 30 days. Therefore, to ensure maximum consideration, OMB should receive public comments by October 22, 2012.

Public Availability of Comments: Before including your address, phone number, email address, or other personal identifying information in your comment, you should be aware that your entire comment-including your personal identifying information-may be made publicly available at any time. While you can ask us in your comment to withhold your personal identifying information from public review, we cannot guarantee that we will be able to do so.

Dated: August 21, 2012.
Robert W. Middleton,
Deputy Chief, Office of Offshore Regulatory Programs.

[FR Doc. 2012-23386 Filed 9-21-12; 8:45 am]

BILLING CODE 4310-VH-P